DEPARTMENT OF TRANSPORTATION

Federal Railroad Administration

[Docket Number FRA-2012-0041]

Petition for Waiver of Compliance

In accordance with Part 211 of Title 49 Code of Federal Regulations (CFR), this document provides the public notice that by a document dated April 4, 2012, the Metropolitan Transportation Authority Metro-North Commuter Railroad (MNCW) has petitioned the Federal Railroad Administration (FRA) for a waiver of compliance from certain provisions of the Federal railroad safety regulations contained at 49 CFR part 236. FRA assigned the petition Docket Number FRA-2012-0041.

MNCW seeks relief from the 2-year periodic testing requirements of the rules, standards, and instructions found at 49 CFR Sections 236.377, Approach locking; 236.378, Time locking; 236.379, Route locking; 236.380, Indication locking; and 236.381, Traffic locking on vital microprocessor-based systems. MNCW proposes to verify and test signal locking systems controlled by microprocessor-based equipment by use of alternative procedures every 4 years after initial baseline testing or program change as follows:

• Verify the cyclic redundancy check/checksum/universal control number of the existing location's specific application logic to the previously tested version that is maintained in MNCW's Software Management Control Plan per requirements of 49 CFR 236.18.

• Test associated hardware connections outside the processor to verify that inputs from switch indication, searchlight signal (where provided), track indication, or other vital inputs to the processor yield the intended output to switches or other devices intended to be locked in the field.

• Analyze and compare results of each 4-year alternative test with the results of the baseline testing performed at the location, and submit results to FRA. MNCW submitted a list with their petition of 28 signal locations currently in service and subject to the relief being requested.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 5, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on May 10, 2012.
Ron Hynes,
Acting Deputy Associate Administrator for Regulatory and Legislative Operations.

[FR Doc. 2012-12293 Filed 5-18-12; 8:45 am]

BILLING CODE 4910-06-P